NATIONAL SCIENCE FOUNDATION

Special Emphasis Panel in Physics; Notice of Meeting

In accordance with the Federal Advisory Committee Act (Pub. L. 92-463, as amended), the National Science Foundation announces the following meeting.

Name: Special Emphasis Panel in Physics (1208).

Date and Time: May 9-11, 2000, 8:00 am-5:00 pm.

Place: California Institute of Technology, Pasadena, CA.

Type of Meeting: Closed.

Contact Person: David Berley, Program Manager, Laser Interferometer Gravitational-Wave Observatory (LIGO), Physics Division, Room 1015, National Science Foundation, 4201 Wilson Blvd., Arlington, VA 22230. Telephone: (703) 306-1892.

Purpose of Meeting: To review progress on the LIGO project.

Agenda: Review the installation and commissioning of LIGO. Review the Data Analysis Acquisition Plan.

Reason for Closing: The LIGO II plans include information of a proprietary or confidential nature, including technical information, information on personnel and data for present and future subcontracts. These matters are exempt under 5 U.S.C. 552b(c), (4) and (6) of the Government in the Sunshine Act.

Dated: March 20, 2000.
Karen J. York,
Committee Management Officer.

[FR Doc. 00-7186 Filed 3-22-00; 8:45 am]

BILLING CODE 7555-01-M